INTERNATIONAL TRADE COMMISSION

[Investigation No. 337-TA-840]

Certain Semiconductor Integrated Circuit Devices and Products Containing Same; Notice of Commission Determination Not To Review an Initial Determination Terminating the Investigation in Its Entirety Based on a Settlement Agreement; Termination of Investigation

AGENCY: U.S. International Trade Commission.

ACTION: Notice.

SUMMARY: Notice is hereby given that the U.S. International Trade Commission has determined not to review the presiding administrative law judge's (“ALJ”) initial determination (“ID”) (Order No. 13) granting a joint motion to terminate the investigation in its entirety based on a settlement agreement. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 1, 2012, based on a complaint filed by Microchip Technology Incorporated of Chandler, Arizona (“Microchip”). 77 FR 25747-48 (May 1, 2012). The complaint alleges violations of section 337 of the Tariff Act of 1930, as amended, 19 U.S.C. 1337, in the importation into the United States, the sale for importation, and the sale within the United States after importation of certain semiconductor integrated circuit devices and products containing same by reason of infringement of certain claims of U.S. Patent Nos. 7,225,088; 6,245,597; 6,159,765; 5,760,720 (“the '720 patent”); 6,559,783; and 6,847,904. The complaint further alleges the existence of a domestic industry. The Commission's notice of investigation named as respondents Intersil Corporation of Milpitas, California; Zilker Labs, Inc. of Austin, Texas (“Zilker”); and Techwell LLC of Milpitas, California. The Office of Unfair Import Investigations was not named as a participating party. The Commission later amended the Notice of Investigation to change the name of respondent Zilker to Zilker Labs LLC and to amend the Complaint to correct a clerical error concerning which alleged Microchip domestic industry product practices the '720 patent. See Notice (June 27, 2012); Order No. 7.

On September 6, 2012, Microchip and the respondents filed a joint motion to terminate the investigation in its entirety based on a settlement agreement and to stay the investigation pending disposition of the motion to terminate.

On September 7, 2012, the ALJ issued the subject ID, granting the joint motion to terminate the investigation pursuant to section 210.21 (b)(1) of the Commission's Rules of Practice and Procedure (19 CFR 210.21 (b)(1)). The ALJ found the issue of staying the investigation moot in light of the grant of termination. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: October 1, 2012.
William R. Bishop,
Hearings and Meetings Coordinator.

[FR Doc. 2012-24500 Filed 10-3-12; 8:45 am]

BILLING CODE 7020-02-P